DEPARTMENT OF THE INTERIOR

Bureau of Land Management

[LLCA942000 L57000000.BX0000 15X L5017AR]

Filing of Plats of Survey: California

AGENCY: Bureau of Land Management, Interior.

ACTION: Notice of official filing.

SUMMARY: The plats of survey of lands described in this notice are scheduled to be officially filed in the Bureau of Land Management (BLM), California State Office, Sacramento, California. The surveys, which were executed at the request of the U.S. Fish and Wildlife Service, the Bureau of Indian Affairs, the U.S. Forest Service, the Natural Resources Conservation Service, and the BLM, are necessary for the management of these lands.

DATES: Protests must be received by the BLM by August 14, 2017.

ADDRESSES: A copy of the plats may be obtained from the BLM, California State Office, 2800 Cottage Way W-1623, Sacramento, California 95825, upon required payment. Please use this address when filing written protests.

FOR FURTHER INFORMATION CONTACT: Jon Kehler, Chief, Branch of Cadastral Survey, Bureau of Land Management, California State Office, 2800 Cottage Way W-1623, Sacramento, California 95825; 1-916-978-4323; jkehler@blm.gov. Persons who use a telecommunications device for the deaf may call the Federal Relay Service at 1-800-877-8339 to contact the above individual during normal business hours. The Service is available 24 hours a day, 7 days a week, to leave a message or question with the above individual. You will receive a reply during normal business hours.

SUPPLEMENTARY INFORMATION:

The lands surveyed are:

Mount Diablo Meridian, California

T. 26 N., R. 2 W., metes-and-bounds survey and meander survey, accepted March 14, 2017.

T. 30 N., R. 7 E., supplemental plat of section 1, accepted May 2, 2017.

T. 22 N., R. 8 W., amended protraction diagram for unsurveyed area, accepted May 11, 2017.

T. 24 S., R. 36 E., dependent resurvey, subdivision and metes-and-bounds survey, accepted May 19, 2017.

T. 23 N., R. 3 E., dependent resurvey and subdivision of section 35, accepted May 30, 2017.

T. 1 N., R. 17 E., dependent resurvey and subdivision, accepted June 5, 2017.

T. 28 S., R. 32 E., dependent resurvey and subdivision, accepted June 13, 2017.

T. 38 N., Rs. 5 & 6 E., dependent resurvey, subdivision of sections and metes-and-bounds survey, accepted June 13, 2017.

San Bernardino Meridian, California

T. 5 S., R. 8 E., dependent resurvey, accepted May 2, 2017.

T. 9 S., R. 2 W., supplemental plat of the SE ¼ of the SE ¼ section 34, accepted May 2, 2017.

T. 9 S., R. 2 W., supplemental plat of lot 76 in section 27, accepted May 2, 2017.

T. 5 N., R. 24 W., dependent resurvey and metes-and-bounds survey, accepted June 6, 2017.

A person or party who wishes to protest a survey must file a notice that they wish to protest with the Chief, Branch of Cadastral Survey. A statement of reasons for a protest may be filed with the notice of protest and must be filed with the Chief, Branch of Cadastral Survey within 30 days after the protest is filed. If a protest against the survey is received prior to the date of official filing, the filing will be stayed pending consideration of the protest. A plat will not be officially filed until the day after all protests have been dismissed or otherwise resolved.

Before including your address, phone number, email address, or other personal identifying information in your comment, you should be aware that your entire comment—including your personal identifying information—may be made publicly available at any time. While you can ask the BLM in your comment to withhold your personal identifying information from public review, we cannot guarantee that we will be able to do so.

Authority: 43 U.S.C., Chapter 3.

Joan H. Honda,
Acting Chief Cadastral Surveyor.

[FR Doc. 2017-14759 Filed 7-13-17; 8:45 am]

BILLING CODE 4310-40-P